DEPARTMENT OF AGRICULTURE

Forest Service

Information Collection: Application for Transportation, Utility Systems, Telecommunications and Facilities on Federal Lands and Property

AGENCY: Forest Service, USDA.

ACTION: Notice; request for comment.

SUMMARY: In accordance with the Paperwork Reduction Act of 1995, the Forest Service is seeking comments from all interested individuals and organizations on the new information collection related to the Application for Transportation, Utility Systems, Telecommunications and Facilities on Federal Lands and Property.

DATES: Comments must be received in writing on or before June 24, 2019 to be assured of consideration. Comments received after that date will be considered to the extent practicable.

ADDRESSES: Comments concerning this notice should be addressed to Director, Lands and Realty Management, USDA Forest Service, 1400 Independence Ave. SW, Mailstop Code: 1124, Washington, DC 20250-1124. Comments also may be submitted via facsimile to 703-605-5117 or by email to: reply_lands_staff@fs.fed.us.

The public may inspect comments received at the Office of the Director, Lands, 1st Floor South East, Sidney R. Yates Federal Building, 201 14th Street SW, Washington, DC, during normal business hours. Visitors are encouraged to call ahead to 202-205-3563 to facilitate entry to the building.

FOR FURTHER INFORMATION CONTACT: Mark Chandler, Realty Specialist, Lands and Realty Management, at 202-205-1117. Individuals who use telecommunication devices for the deaf (TDD) may call the Federal Relay Service (FRS) at 1-800-877-8339 between 8 a.m. and 8 p.m. Eastern Standard Time, Monday through Friday.

SUPPLEMENTARY INFORMATION: Title: Application for Transportation, Utility Systems, Telecommunications and Facilities on Federal Lands and Property.

OMB Number: 0596-NEW.

Expiration Date of Approval: N/A.

Type of Request: Revision of SF-299, Application for Transportation, Utility Systems, Telecommunications and Facilities on Federal Lands and Property, into a common form.

Abstract: Section 6409 of the Middle Class Tax Relief and Job Creation Act of 2012 (Public Law 112-96) contains provisions directing the Administrator of the General Services Administration to develop a common form for applications for easements and rights-of-way for all executive agencies that shall be used by applicants with respect to the buildings or other property of each such agency. On June 14, 2012, the President signed Executive Order 13616, “Accelerating Broadband Infrastructure Deployment”. Section 4 of Executive Order 13616 directed the General Services Administration (GSA) to develop and use one or more templates for uniform contract, application, and permit terms to facilitate nongovernment entities' use of Federal property for the deployment of broadband facilities. GSA created a Common Form Applications (GSA 3729). On January 8, 2018, the President signed Executive Order 13821, “Streamlining and Expediting Requests to Locate Broadband Facilities in Rural America,” which directed GSA to (1) evaluate the effectiveness of the GSA Common Form Application and (2) determine whether any revisions to the GSA Common Form Application were appropriate. GSA completed their evaluation of the use of the Common Form Application and determined that all other land management agencies were utilizing the SF-299 and not the Common Form Application. To ensure a coordinated and consistent approach across all agencies' GSA determined that with minor modifications, the SF-299 would serve as the standard application form for all agencies. The information collection requirements are necessary for the Forest Service to issue and administer special use authorizations that allow the public to use and occupy of National Forest System (NFS) lands under these authorities. The information collected is used by Forest Service officials (unless otherwise noted) to ensure that uses of NFS lands are authorized, in the public interest, and compatible with the Agency's mission; and/or record authorization of use granted by appropriate Forest Service officials.

In addition, the Department of the Interior (DOI) statutes for the Bureau of Land Management (BLM), Fish and Wildlife Service (FWS), National Park Service (NPS), and Bureau of Reclamation (BOR) along with the statutes for the U.S. Army Corp of Engineers (USACE), and the General Services Administration (GSA) authorize their collection of information who will utilize form SF-299 “Application for Transportation, Utility Systems, Telecommunications and Facilities on Federal Lands and Property.”

Several statutes authorize the Forest Service to issue and administer authorizations for use and occupancy of NFS lands and collect information from the public for those purposes. The laws authorizing the collection of this information include the Organic Administration Act of 1897 (16 U.S.C. 551); Title V of the Federal Land Policy and Management Act of 1976 (FLPMA, 43 U.S.C. 1761-1771); Act of March 4, 1915 (16 U.S.C. 497); Alaska Term Permit Act of March 30, 1948 (16 U.S.C. 497a); Act of September 3, 1954 (68 Stat. 1146; 43 U.S.C. 931c, 931d); National Forest Ski Area Permit Act (16 U.S.C. 497b); section 28 of the Mineral Leasing Act (30 U.S.C. 185); National Forest Roads and Trails Act (FRTA, 16 U.S.C. 532-538); section 7 of the Granger-Thye Act (16 U.S.C. 580d); Act of May 26, 2000 (16 U.S.C. 460l-6d); Federal Lands Recreation Enhancement Act (16 U.S.C. 6801-6814); Archeological Resource Protection Act of October 31, 1979 (16 U.S.C. 470aa-470mm); and the Rural Electrification Act of 1936, as amended.

Forest Service regulations implementing these authorities, found at 36 CFR part 251, subpart B, contain information collection requirements, including submission of applications, execution of forms, and imposition of terms and conditions that entail information collection requirements, such as the requirement to submit annual financial information, to prepare and update an operating plan; to prepare and update a maintenance plan, and to submit compliance reports and information updates.

The information helps the Forest Service identify the environmental and social impacts of special uses for purposes of compliance with the National Environmental Policy Act and program administration.

Information collection occurs via application forms, as well as terms and conditions in special use authorizations and operating plans. Information is required from proponents and applicants to evaluate proposals and applications to use or occupy NFS lands.

Special use authorizations encompass a variety of activities ranging from individual private uses to large-scale commercial facilities and public services. Examples of authorized special uses include public and private road rights-of-way, apiaries, domestic water supply conveyance systems, telephone and electric service rights-of-way, oil and gas pipeline rights-of-way, communications facilities, hydroelectric power-generating facilities, ski areas, resorts, marinas, municipal sewage treatment plants, and public parks and playgrounds.

SF-299, Application for Transportation, Utility Systems, Telecommunications and Facilities on Federal Lands and Property, is used to evaluate the applicant's technical and financial capability, nature of the proposed operations, and anticipated environmental impacts and proposed mitigation of those impacts. This form is used for most non-recreational NFS lands use requests. This form will also be used by the Department of the Interior's BLM, FWS, NPS, BOR, the USACE and GSA, to grant, issue, or renew rights-of-way (ROW) to use a specific piece of public land for a certain project.

Compliance Reports and Information Updates

Forest Service

Estimated Annual Burden: 8 burden hours per response.

Type of Respondents: Individuals, Businesses, Non-profit Organizations, and Non-Federal Governmental entities.

Estimated Annual Number of Respondents: 2,463 respondents.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: April 11, 2019.
Allen Rowley,
Acting Associate Deputy Chief, National Forest System.

[FR Doc. 2019-08320 Filed 4-24-19; 8:45 am]

BILLING CODE 3411-15-P